DEPARTMENT OF TRANSPORTATION

Federal Aviation Administration

14 CFR Part 39

[Docket No. 2003-NM-63-AD; Amendment 39-13680; AD 2004-12-19]

RIN 2120-AA64

Airworthiness Directives; Airbus Model A319, A320, and A321 Series Airplanes

AGENCY: Federal Aviation Administration, DOT.

ACTION: Final rule.

SUMMARY: This amendment adopts a new airworthiness directive (AD), applicable to certain Airbus Model A319, A320, and A321 series airplanes. This AD requires replacement of a certain transformer rectifier unit (TRU) with a certain new TRU. This action is necessary to prevent ignition of the input filter capacitors of the TRU in position 2 of the avionics compartment, which could potentially result in smoke in the cockpit. This action is intended to address the identified unsafe condition.

DATES: Effective July 27, 2004.

The incorporation by reference of certain publications listed in the regulations is approved by the Director of the Federal Register as of July 27, 2004.

ADDRESSES: The service information referenced in this AD may be obtained from Airbus, 1 Rond Point Maurice Bellonte, 31707 Blagnac Cedex, France. This information may be examined at the Federal Aviation Administration (FAA), Transport Airplane Directorate, Rules Docket, 1601 Lind Avenue, SW., Renton, Washington; or at the National Archives and Records Administration (NARA). For information on the availability of this material at NARA, call (202) 741-6030, or go to: http://www.archives.gov/federal_register/code_of_federal_regulations/ibr_locations.html.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION: A proposal to amend part 39 of the Federal Aviation Regulations (14 CFR part 39) to include an airworthiness directive (AD) that is applicable to certain Airbus Model A319, A320, and A321 series airplanes, was published in the Federal Register on January 29, 2004 (69 FR 4255). That action proposed to require replacement of a certain transformer rectifier unit (TRU) with a certain new TRU.

Comments

Interested persons have been afforded an opportunity to participate in the making of this amendment. The FAA has duly considered the comments received.

Support for the Proposed AD

Two commenters support the proposed AD.

Request To Revise Reference to Parallel French Airworthiness Directive

One commenter requests that we revise Note 1 of the proposed AD to refer to French airworthiness directive 2002-554(B), dated November 13, 2002, instead of 2002-544(B). We concur. The reference to French airworthiness directive 2002-544(B) in Note 1 of the proposed AD was a typographical error. The preamble of the proposed AD correctly referred to 2002-554(B). We have revised Note 1 of this final rule accordingly.

Request To Revise Cost Impact Estimate

One commenter requests that we revise the cost impact estimate from 1 work hour to 3 work hours. The commenter's rationale is that the time necessary for the modification of the affected TRU should be included in the cost impact estimate.

We do not concur. The cost impact figures discussed in AD rulemaking actions represent only the time necessary to perform the specific actions actually required by the AD. This AD requires replacement of a certain TRU with a certain new TRU. The intent of this AD may be done through a modification of the TRU, which may be done by the operator or by a qualified vendor, or the intent may be done through installation of a new TRU. For this reason, we find that it is not appropriate to include the time for modification of the TRU in the cost impact estimate for this AD. No change to the final rule is necessary in this regard.

Conclusion

After careful review of the available data, including the comments noted above, we have determined that air safety and the public interest require the adoption of the rule with the change described previously. We have determined that this change will neither increase the economic burden on any operator nor increase the scope of the AD.

Cost Impact

We estimate that 553 airplanes of U.S. registry will be affected by this AD, that it will take approximately 1 work hour per airplane to accomplish the required actions, and that the average labor rate is $65 per work hour. Required parts will be supplied by the airplane manufacturer at no cost to the operators. Based on these figures, the cost impact of this AD on U.S. operators is estimated to be $35,945, or $65 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2004-12-19 Airbus: Amendment 39-13680. Docket 2003-NM-63-AD.

Applicability: Model A319, A320, and A321 series airplanes, certificated in any category; except those airplanes on which Airbus Modification 30737 has been accomplished in production (reference Airbus Service Bulletin A320-24-1099, Revision 02, dated February 11, 2003, in service).

Compliance: Required as indicated, unless accomplished previously.

To prevent ignition of the input filter capacitors of the transformer rectifier unit (TRU) in position 2 of the avionics compartment, which could potentially result in smoke in the cockpit, accomplish the following:

Replacement

(a) Prior to the accumulation of 15,000 total flight hours, or within 16 months after the effective date of this AD, whichever occurs later, replace the TRU, part number Y005-2, with a new TRU, part number Y005-3, in accordance with the Accomplishment Instructions of Airbus Service Bulletin A320-24-1099, Revision 02, dated February 11, 2003.

(b) Replacements accomplished before the effective date of this AD per Airbus Service Bulletin A320-24-1099, dated March 5, 2002; or Revision 01, dated July 26, 2002; are considered acceptable for compliance with the corresponding action specified in this AD.

Parts Installation

(c) As of the effective date of this AD no person shall install a TRU, part number Y005-2, within position 2 of the avionics compartment on any airplane.

Alternative Methods of Compliance

(d) In accordance with 14 CFR 39.19, the Manager, International Branch, ANM 116, Transport Airplane Directorate, FAA, is authorized to approve alternative methods of compliance (AMOCs) for this AD.

Incorporation by Reference

(e) Unless otherwise specified in this AD, the actions shall be done in accordance with Airbus Service Bulletin A320-24-1099, Revision 02, dated February 11, 2003. This incorporation by reference was approved by the Director of the Federal Register in accordance with 5 U.S.C. 552(a) and 1 CFR part 51. Copies may be obtained from Airbus, 1 Rond Point Maurice Bellonte, 31707 Blagnac Cedex, France. Copies may be inspected at the FAA, Transport Airplane Directorate, 1601 Lind Avenue, SW., Renton, Washington; or at the National Archives and Records Administration (NARA). For information on the availability of this material at NARA, call (202) 741-6030, or go to: http://www.archives.gov/federal_register/code_of_federal_regulations/ibr_locations.html.

Note 1: The subject of this AD is addressed in French airworthiness directive 2002-554(B), dated November 13, 2002.

Effective Date

(f) This amendment becomes effective on July 27, 2004.

Issued in Renton, Washington, on June 9, 2004.
Kalene C. Yanamura,
Acting Manager, Transport Airplane Directorate, Aircraft Certification Service.

[FR Doc. 04-13701 Filed 6-21-04; 8:45 am]

BILLING CODE 4910-13-P